NUCLEAR REGULATORY COMMISSION

[NRC-2010-0321]

Notice of Issuance of Regulatory Guide

AGENCY: Nuclear Regulatory Commission.

ACTION: Notice of Issuance and Availability of Revision 2 of Regulatory Guide 1.107, “Qualification for Cement Grouting for Prestressing Tendons in Containment Structures.”

FOR FURTHER INFORMATION CONTACT: Mekonen M. Bayssie, U.S. Nuclear Regulatory Commission, Washington, DC 20555-0001, telephone: 301-251-7489 or e-mail Mekonen.Bayssie@nrc.gov.

SUPPLEMENTARY INFORMATION:

I. Introduction

The U.S. Nuclear Regulatory Commission (NRC or Commission) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide (RG) 1.107 entitled, “Qualification for Cement Grouting for Prestressing Tendons in Containment Structures,” was issued with a temporary identification as Draft Regulatory Guide, DG-1196.

This guide describes a method that the staff of the U.S. Nuclear Regulatory Commission considers acceptable for the use of Portland cement grout as the corrosion inhibitor for prestressing tendons in prestressed concrete containment structures. This guide also provides quality standards for using Portland Cement grout to protect prestressing steel from corrosion.

The prestressing tendon system of a prestressed concrete containment structure is a principal strength element of the structure. The ability of the containment structure to withstand the events postulated to occur during the life of the structure depends on the functional reliability of the structure's principal strength elements. Thus, any significant deterioration of the prestressing elements caused by corrosion may present a potential risk to public safety. It is important that any system for inhibiting the corrosion of prestressing elements must possess a high degree of reliability in performing its intended function.

II. Further Information

In October 2010, DG-1196 was published with a public comment period of 60 days from the issuance of the guide. The public comment period closed on December 11, 2010. Electronic copies of Regulatory Guide 1.107, Revision 2 are available through the NRC's public Web site under “Regulatory Guides” at http://www.nrc.gov/reading-rm/doc-collections/ and through the NRC's Agencywide Documents Access and Management System (ADAMS) at http://www.nrc.gov/reading-rm/adams.html, under Accession No. ML110550732. The Regulatory Analysis may be found in ADAMS under Accession No. ML110550743. Staff's responses to public comments on DG-1196 are available under ML110590058.

In addition, regulatory guides are available for inspection at the NRC's Public Document Room (PDR) located at Room O-1 F21, One White Flint North, 11555 Rockville Pike, Rockville, Maryland 20852-2738. The PDR's mailing address is USNRC PDR, Washington, DC 20555-0001. The PDR can also be reached by telephone at 301-415-4737 or 800-397-4209, by fax at 301-415-3548, and by e-mail to pdr.resources@nrc.gov.

Regulatory guides are not copyrighted, and NRC approval is not required to reproduce them.

Dated at Rockville, Maryland, this 17th day of June, 2011.
For the Nuclear Regulatory Commission.
Thomas H. Boyce,
Chief, Regulatory Guide Development Branch, Division of Engineering, Office of Nuclear Regulatory Research.

[FR Doc. 2011-16273 Filed 6-28-11; 8:45 am]

BILLING CODE 7590-01-P